ENVIRONMENTAL PROTECTION AGENCY

[FRL-6837-1]

Comprehensive Environmental Response, Compensation and Liability Act (CERCLA) or Superfund, Section 311(b)(9)(A), CERCLA Section 311(b)(3) “Announcement of Competition for EPA's Brownfields Job Training and Development Demonstration Pilots”

AGENCY: Environmental Protection Agency (EPA).

ACTION: Notice.

SUMMARY: The Environmental Protection Agency will begin accepting applications for Brownfields Job Training and Development Demonstration Pilots through October 16, 2000. The application period will close October 16, 2000 and the Agency intends to competitively select ten Pilots by December 2000. All funding will be contingent upon availability of appropriated funds.

DATES: This action is effective July 17, 2000. All proposals must be received by October 16, 2000.

ADDRESSES: Interested applicants must submit a response to the Brownfields Job Training and Development Demonstration Pilot Guidelines. Job training guidelines can be obtained via the Internet: http://www.epa.gov/brownfields/, or by calling the Superfund Hotline at 1-800-424-9346 (TDD for the hearing impaired at 1-800-553-7672).

FOR FURTHER INFORMATION CONTACT: EPA's Office of Solid Waste and Emergency Response, Myra Blakely, Outreach and Special Projects Staff, (202) 260-4527 or Doris Thompson at (202) 260-4483.

SUPPLEMENTARY INFORMATION: The Brownfields Job Training and Development Demonstration Pilots will each be funded up to $200,000 over two-years. These funds are to be used to bring together community groups, job training organizations, employers, investors, lenders, developers, and other affected parties to address the issue of providing training for residents in communities impacted by brownfields. The goals of the pilots are to facilitate cleanup of brownfields sites contaminated with hazardous substances and prepare the trainees for future employment in the environmental field. The pilot projects must prepare trainees in activities that can be usefully applied to a cleanup employing an alternative or innovative technology.

EPA expects to select approximately 10 Brownfields Environmental Job Training and Development pilots by the end of December 2000. Pilot applicants must be located within or near one of the 362 pre-2001 brownfields assessment pilot communities. Colleges, universities, non-profit training centers, community-based job training organizations, states, cities, towns, counties, U.S. Territories, and Federally recognized Indian Tribes are eligible to apply for funds. EPA welcomes and encourages applications from coalitions of such entities, but a single eligible entity must be identified as the legal recipient. Entities with experience in providing environmental job training and placement programs are invited to apply. The deadline for applications is October 16, 2000.

EPA's Brownfields Initiative is an organized commitment to help communities revitalize abandoned contaminated properties, and to thereby eliminate potential health risks and restore economic vitality to areas where these properties exist. EPA defines brownfields as abandoned, idled or under-used industrial and commercial facilities where expansion or redevelopment is complicated by real or perceived environmental contamination.

Submission to Congress and the General Accounting Office

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. This action is not a “major rule” as defined by 5 U.S.C. 804(2).

Dated: July 10, 2000.
Barbara Bassuener,
Acting Director, Outreach and Special Projects Staff, Office of Solid Waste and Emergency Response.

[FR Doc. 00-18025 Filed 7-14-00; 8:45 am]

BILLING CODE 6560-50-P